POSTAL SERVICE

39 CFR Part 111

Manifest Mailing System Retired

AGENCY: Postal Service.

ACTION: Proposed rule.

SUMMARY: The Postal Service is proposing to amend Mailing Standards of the United States Postal Service, Domestic Mail Manual (DMM®) subsection 703.2.0 to retire the manifest mailing system (MMS).

DATES: Submit comments on or before October 14, 2025.

ADDRESSES: Mail or deliver written comments to the manager, Product Classification, U.S. Postal Service, 475 L'Enfant Plaza SW, Room 4446, Washington, DC 20260-5015. If sending comments by email, include the name and address of the commenter and send to PCFederalRegister@usps.gov, with a subject line of “MMS Retired”. Faxed comments are not accepted.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: James Duffy at (517) 703-4246, Geriann Wakely at (631-913-1116) or Garry Rodriguez at (202) 268-7281.

SUPPLEMENTARY INFORMATION: All submitted comments and attachments are part of the public record and subject to disclosure. Do not enclose any material in your comments that you consider to be confidential or inappropriate for public disclosure.

Background

The Postal Service has streamlined the acceptance, induction, and verification of commercial cards, letters, flats, and package mailings to electronic files and documentation including:

• Full-Service Mailings

• Electronic Induction (eInduction)

• Seamless Acceptance

• Move Update

• Mail Irregularities

• USPS Ship

These key initiatives leverage existing technology to:

1. Improve mail quality by sharing information on mail preparation, identification of trends, and trend-based quality measurements.

2. Simplify the induction of mailings through automated and standardized acceptance, verification, and induction processes.

3. Provide end-to-end visibility through scanning data.

4. Enable mailers, through an account management portal, to manage account activities, view account balances, and generate reports based on mailings.

Streamlined mail acceptance for cards, letters, and flat mailers is achieved through the implementation of the following:

Full-Service: Full-Service Mailings use Intelligent Mail® barcodes (IMb®) on mail containers, handling units (trays, sacks), and mailpieces to provide end-to-end visibility into the mailstream. First-Class Mail® (cards, letters, and flats), Periodicals (letters and flats), and USPS Marketing Mail® (letters, and flats) meeting eligibility requirements for automation or carrier route prices (except for USPS Marketing Mail Enhanced Carrier Route saturation flats) and Bound Printed Matter (BPM) presorted or carrier route barcoded flats, are potentially eligible for incentives. Electronic verifications are performed to ensure mailer compliance with the program requirements.

Seamless Acceptance: Seamless Acceptance automates the verification of commercial mailings by leveraging electronic documentation (eDoc), Intelligent Mail container barcode (IMcb), Intelligent Mail tray barcodes (IMtb), IMb, and information collected from both handheld sampling devices and mail processing equipment scans. Seamless Acceptance is mandatory for all detached mail unit (DMU) locations.

Streamlined mail acceptance for package mailers is achieved through the implementation of the following:

USPS Ship: USPS Ship supports postage calculation and adjustment for Domestic and International package products including Priority Mail Express®, Priority Mail®, USPS Ground Advantage®, Priority Mail Express International®, Priority Mail International™, and First-Class Package International Service®. USPS Ship also supports USPS Connect® Local, USPS Connect Local Mail, USPS Connect Regional, USPS Returns®, and Parcel Return Service (PRS).

Manifest customers submit Shipping Service File (SSF) version 1.6, version 1.7, or version 2.0 including rate ingredients(weight, dimensions, packaging, entry) postage, and payment method for each package to USPS via PDX, SFTP, or AS2. USPS Ship validates and prices each individual package using claimed rate ingredients. If a package fails to price, USPS Ship uses advanced processing logic to update the rate ingredients included in the mailing to price as many packages as possible. Details can be found in Publication 199, Intelligent Mail Package Barcode (IMpb) Implementation Guide for Confirmation Services and Electronic Payment Systems.

As part of the Postal Service's 100% Visibility initiative, USPS launched a class-specific barcode for virtually every product and combination of extra services available to retail and commercial customers across all payment channels. For package customers, Intelligent Mail package barcode (IMpb®) and associated files satisfy a wide range of data and product requirements for businesses, consumers, and the Postal Service through the comprehensive information it contains. The IMpb or unique tracking barcode is required for all parcels shipped through the Postal Service. Package acceptance can be achieved through USPS Ship or Click-N-Ship®.

Proposal

The Postal Service is proposing to retire the manifest mailing system, By retiring manifest mail preparation along with the hard copy documentation, the Postal Service is proposing to migrate customers to Electronic Documentation (eDoc), Full Service, Seamless, and eInduction, for Letters, Cards and Flats. Options for Package customers are USPS Ship, and Click-N-Ship. Mailers of Letters, Cards, and Flats can reference Mail.dat/Mail.XML Technical Specifications posted on PostalPro available at postalpro.usps.com. Package shippers can reference Publication 199, Publication 205, and USPS Ship documentation on PostalPro.

As a result of retiring MMS, Publication 401, Guide to the Manifest Mailing System, will no longer be available on PostalPro after the effective date. The decision to retire manifest mailing preparation is based on the migration plan for all manifest mailers to migrate over to a more secure, efficient and streamlined alternative to MMS.

There are several advantages and benefits for our manifest mailers to migrate. Mailers will no longer be required to provide hard copy documentation information at the time of mailings. All information is submitted and available electronically eliminating the need for hard copy documentation. Mailers will no longer be required to maintain quality control documents previously required with MMS, and onsite MMS authorization reviews are no longer required.

The Postal Service is proposing to implement this change effective April 1, 2026.

Resources

• HQMailEntry HQMailEntry@usps.gov

• USPS Ship is our next generation package platform for postage payment and adjustments. Our new, improved platform simplifies your shipping process, so you can focus on your core business: uspsshipsupport@usps.gov or 1-877-264-9693, Opt. 2

• Click N SHIP: Tech Sheets for APIs, Click-N-Ship, and USPS Ship | PostalPro or 1-800-344-7779

• Information about electronic documentation can be found on Postal Pro: https://postalpro.usps.com/mailing/edoc

• Shipping Solutions and information about USPS SHIP can be located on Postal Pro: Shipping Services | PostalPro

• Publication 199 Publication 199: Intelligent Mail Package Barcode (IMpb) Implementation Guide for Confirmation Services and Electronic Payment Systems | PostalPro

• Guide to USPS SHIP: Guide to USPS Ship for New Shippers | PostalPro

Although exempt from the notice and comment requirements of the Administrative Procedure Act (5 U.S.C. 553(b), (c)) regarding proposed rulemaking by 39 U.S.C. 410(a), the Postal Service invites public comment on the proposed revisions to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, the Postal Service proposes the following changes to Mailing Standards of the United States Postal Service, Domestic Mail Manual (DMM), incorporated by reference in the Code of Federal Regulations (see 39 CFR 111.1):

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

700 Special Standards

* * * * *

705 Advanced Preparation and Special Postage Payment Systems

* * * * *

[Revise the heading and text of 2.0 to read as follows:]

2.0 Mailing Services

The Postal Service offers customers the following mailing services:

a. Letters (cards) and Flats:

1. Full-Service Automation Option, see 705.23.

2. Seamless Acceptance Program, see 705.22.

b. Packages: The USPS Ship program is an electronic manifest mailing system for packages that allows mailers to document and pay postage and extra services fees by transmitting electronic files to the Postal Service without generating paper manifests, postage statements, or clearance documents. Business Acceptance Solutions, USPS Headquarters, must approve these systems. Unless authorized by Business Acceptance Solutions, mailers may not commingle USPS Ship mail with non-USPS Ship mail within the same mailing, or place USPS Ship mail and non-USPS Ship mail in or on the same mailing container. For additional information reference PostalPro.

* * * * *

Colleen Hibbert-Kapler,
Attorney, Ethics & Legal Compliance.

[FR Doc. 2025-17659 Filed 9-11-25; 8:45 am]

BILLING CODE 7710-12-P